DEPARTMENT OF JUSTICE

Notice of Lodging of Consent Decrees Pursuant to the Clean Water Act

In accordance with Departmental Policy, 28 CFR 50.7, notice is hereby given that a cross-claim and two consent decrees, which together would resolve all claims in Jones v. Thorne, et al., Civil Action No. CV97-1674-ST (D. Ore.), were lodged with the United States District Court for the District of Oregon on November 30, 2000.

The first proposed consent decree, entitled “Consent Decree Settling United States' Cross-Claim Against Port of Portland,” settles claims asserted by the United States against the Port of Portland (“Port”) in a cross-claim in the lawsuit. The cross-claim was also lodged with the Court. The cross-claim and consent decree concern alleged violations of the Clean Water Act, 33 U.S.C. 1311, resulting from the Port's alleged unauthorized discharge of dredged or fill materials into waters of the United States in the Rivergate area of Portland, Oregon, near the confluence of the Columbia and Willamette Rivers, between 1991 and 1996. The consent decree requires the Port to: (a) Mitigate and restore approximately 37 acres of wetlands and associated upland riparian habitat and buffer areas adjacent to the Columbia Slough and Smith and Bybee Lakes in the Rivergate area, in accordance with parameters specified in the consent decree and detailed plans to be approved by the United States Army Corps of Engineers (“Corps”); (b) preserve the mitigation and restoration in perpetuity by recording the consent decree and identifying the restrictions against development on the property in any instrument by which the Port conveys an interest in the property; (c) pay $285,000 for additional mitigation projects in the Smith and Bybee Lakes Management Area, subject to the approval of the corps; (d) pay $64,000 to the City of Portland for revegetation of the lower Columbia Slough banks and buffer areas; and (e) pay $50,000.00 to the United States Treasury.

The second consent decree, entitled “Consent Decree, Order of Dismissal with Prejudice and Release,” settles claims asserted by William Michael Jones against the Port and the United States related to the Port's development of Rivergate. This consent decree requires the Port to perform some of the same activities required in the consent decree described in the previous paragraph. Also in this consent decree, the United States, on behalf of the Corps, the Environmental Protection Agency and the Fish and Wildlife Service, releases the Port from any claims it may have under the 1989 Cooperative Agreement regarding the Port's development of Rivergate.

The Department of Justice will receive written comments relating to the cross-claim and proposed consent decrees for a period of thirty (30) days from the date of publication of this notice. Comments should be addressed to the Assistant Attorney General, Environment and Natural Resources Division, United States Department of Justice, Attention: G. Scott Williams, Senior Attorney, Environmental Defense Section, P.O. Box 23986, Washington, D.C. 20026-3986, and should refer to Jones v. Thorne, et al., DJ No. 90-5-1-4-585.

The cross-claim and proposed consent decrees may be examined at the Clerk's Office, United States District Court, 740 United States Courthouse, 1000 S.W. Third Avenue, Portland, OR 97204-2902.

Letitia J. Grishaw,
Chief, Environmental Defense Section, Environment and Natural Resources Division, United States Department of Justice.

[FR Doc. 00-31767 Filed 12-13-00; 8:45 am]

BILLING CODE 4410-15-M